ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Thursday, March 19, 2015. The meeting will be held in the Ortega Ballroom at the Officer's Club on Moraga Avenue, The Presidio, San Francisco, California, starting at 8:00 a.m. PST.

DATES: The quarterly meeting will take place on Thursday, March 19, 2015, starting at 8:30 a.m. PST.

ADDRESSES: The meeting will be held in the Ortega Ballroom at the Officer's Club on Moraga Avenue, The Presidio, San Francisco, California.

FOR FURTHER INFORMATION CONTACT: Cindy Bienvenue, 202-517-0202, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into federal project requirements. For more information on the ACHP, please visit our Web site at www.achp.gov.

The agenda for the upcoming quarterly meeting of the ACHP is the following:

Call to Order—8:00 a.m.

I. Chairman's Welcome

II. Historic Preservation Policy and Programs

A. Building a More Inclusive Preservation Program

1. Asian-American Pacific Islander Initiative

2. American Latino Heritage Initiative

B. Working with Native Americans

1. Presentation by California Tribes

2. ACHP Native American Affairs Committee Activities

C. Preservation 50 and the ACHP Public Policy Initiative

D. Historic Preservation Legislation in the 114th Congress

1. ACHP Legislative Agenda

2. Policy for Adoption of ACHP Legislative Positions

E. Clement Price Scholar Program

III. Section 106 Issues

A. 2015 Section 3 Report to the President Implementation

B. Alignment of Section 4f and Section 106 Reviews

C. Federal Agency Support for SHPOs and THPOs

IV. ACHP Management Issues

A. Member Communications-Recommendations

V. New Business

VI. Adjourn

The meetings of the ACHP are open to the public. If you need special accommodations due to a disability, please contact Cindy Bienvenue, 202-517-0202 or cbienvenue@achp.gov, at least seven (7) days prior to the meeting.

Authority: 16 U.S.C. 470j.

Dated: February 27, 2015.
Javier E. Marques,
Associate General Counsel.

[FR Doc. 2015-04498 Filed 3-3-15; 8:45 am]

BILLING CODE 4310-K6-P